DEPARTMENT OF THE TREASURY

Internal Revenue Service

26 CFR Part 300

[REG-108792-16]

RIN 1545-BN37

User Fees for Installment Agreements; Hearing Cancellation

AGENCY: Internal Revenue Service (IRS), Treasury.

ACTION: Cancellation of notice of public hearing on proposed rulemaking.

SUMMARY: This document provides notice of the cancellation of a public hearing on proposed regulation relating to proposed amendments to the regulations that provide user fees for installment agreements.

DATES: The public hearing, originally scheduled for October 19, 2016 at 2:00 p.m. is cancelled.

FOR FURTHER INFORMATION CONTACT: Regina Johnson of the Publications and Regulations Branch, Legal Processing Division, Associate Chief Counsel (Procedure and Administration) at (202) 317-6901 (not a toll-free number).

SUPPLEMENTARY INFORMATION: A notice of proposed rulemaking and notice of public hearing that appeared in the Federal Register on Monday, August 22, 2016 (81 FR 56543) announced that a public hearing was scheduled for October 19, 2016 at 2 p.m. in the IRS Auditorium, Internal Revenue Building, 1111 Constitution Avenue NW., Washington, DC. The subject of the public hearing is under section 6159 of the Internal Revenue Code.

The public comment period for these regulations expired on October 6, 2016. The notice of proposed rulemaking and notice of hearing instructed those interested in testifying at the public hearing to submit a request to speak and outline of the topics to be addressed. As of October 6, 2016, no one has requested to speak. Therefore, the public hearing scheduled October 19, 2016 at 2 p.m. is cancelled.

Crystal Pemberton,
Senior Federal Register Liaison, Publications and Regulations Branch, Legal Processing Division, Associate Chief Counsel.

[FR Doc. 2016-25055 Filed 10-14-16; 8:45 am]

BILLING CODE 4830-01-P